Title 3—

The President

Executive Order 13752 of December 8, 2016

Relating to the Implementation of the Convention on the International Recovery of Child Support and Other Forms of Family Maintenance

The United States of America deposited its instrument of ratification of the Hague Convention on the International Recovery of Child Support and Other Forms of Family Maintenance (Convention) on September 7, 2016. The Convention will enter into force for the United States on January 1, 2017. Article 4 of the Convention imposes upon States Parties an obligation to designate a “Central Authority” for the purpose of discharging certain specified functions.

NOW, THEREFORE, by virtue of the authority vested in me as President by the Constitution and the laws of the United States of America, it is ordered as follows:

Section 1. Designation of Central Authority. The Department of Health and Human Services is hereby designated as the Central Authority of the United States for purposes of the Convention. The Secretary of Health and Human Services is hereby authorized and empowered, in accordance with such regulations as the Secretary may prescribe, to perform all lawful acts that may be necessary and proper in order to execute the functions of the Central Authority in a timely and efficient manner.

Sec. 2. Designation of State IV-D Child Support Agencies. The Central Authority may designate the State agencies responsible for implementing an approved State Plan under title IV-D of the Social Security Act, 42 U.S.C. 651 et seq., as public bodies authorized to perform specific functions in relation to applications under the Convention.

Sec. 3. General Provisions. (a) Nothing in this order shall be construed to impair or otherwise affect:

(i) the authority granted by law to an executive department, agency, or the head thereof, or the status of that department or agency within the Federal Government; or

(ii) the functions of the Director of the Office of Management and Budget relating to budgetary, administrative, or legislative proposals.

(b) This order shall be implemented consistent with applicable law and subject to the availability of appropriations.

(c) This order is not intended to, and does not, create any right or benefit, substantive or procedural, enforceable at law or in equity by any party against the United States, its departments, agencies, or entities, its officers, employees, or agents, or any other person.

THE WHITE HOUSE,

December 8, 2016.

[FR Doc. 2016-30101

Filed 12-12-16; 11:15 am]

Billing code 3295-F7-P